Proclamation 10379 of April 29, 2022

National Foster Care Month, 2022

By the President of the United States of America

A Proclamation

Every May, we renew our commitment to ensuring that all youth in foster care have the love, support, and resources they need to thrive. We also celebrate the families who provide safe and loving homes for our Nation’s foster children. We share our appreciation for the dedicated volunteers and professionals who help our Nation’s foster youth find permanent homes and connect with their biological families when appropriate—many of whom are working hard to safely reunite with their children.

Today, nearly a third of children in foster care are being raised by kin—many of whom are grandparents. This helps children retain family bonds and a sense of cultural identity, which are so important to a child’s resilience and well-being. As children and families of color are disproportionately overrepresented in foster care, it is essential that we invest in culturally supportive services to nurture all children and families who are impacted by the child welfare system.

The COVID-19 pandemic has had a disproportionate impact on young people in foster care. That is why my Administration implemented the Supporting Foster Youth and Families through the Pandemic Act—helping foster youth aging out of the system access services to stay in school, participate in job training programs, pay rent and other bills, and transition to adulthood. My Administration also funded grants that help agencies connect kinship caregivers and foster parents to programs and services for children in their care and we continue to promote best practices that identify and notify relatives when a child has been placed into foster care.

This month, we also recognize the history of injustice in America’s foster care system—particularly against Black and Native Americans. Relative to their white peers, Black and Native American children stay in foster care longer and are less likely to be adopted or reunited with their birth parents. Furthermore, foster care systems do not provide children with disabilities or LGBTQI+ youth with the individualized support, resources, and safety measures they need and deserve. My Administration stands with transgender youth in foster care and with all families that love and care for their children.

To improve our foster care system, I have proposed a significant funding increase and a package of reforms to expand prevention services so more children can remain safely in their own homes. For children who need to be placed into foster care, my proposal provides States with incentives to place more children with relatives or adults with whom they are emotionally bonded, when appropriate. It will also increase resources for youth who are aging out of foster care. In addition, I have called for competitive grants for States to advance racial equity, expand prevention services, and improve education outcomes in our child welfare system. My proposal would also help more low- and moderate-income families afford the costs of adoption and legal guardianship of children who would otherwise be in foster care.

National Foster Care Month is an opportunity for us to celebrate foster youth and the people who provide them with love and support. It is our duty to help vulnerable children, and child welfare professionals and the families they serve. Through education, volunteering, and partnerships, we can strengthen our communities and ensure that youth in foster care have the support they need for a future they deserve.

NOW, THEREFORE, I, JOSEPH R. BIDEN JR., President of the United States of America, by virtue of the authority vested in me by the Constitution and the laws of the United States, do hereby proclaim May 2022 as National Foster Care Month. I call upon all Americans to observe this month by reaching out in their neighborhoods and communities to the children and youth in foster care and their families, to those at risk of entering foster care, and to kin families and other caregivers.

IN WITNESS WHEREOF, I have hereunto set my hand this twenty-ninth day of April, in the year of our Lord two thousand twenty-two, and of the Independence of the United States of America the two hundred and forty-sixth.

[FR Doc. 2022-09759

Filed 5-4-22; 8:45 am]

Billing code 3395-F2-P